DEPARTMENT OF COMMERCE

International Trade Administration

[(A-570-815) (A-533-806) (C-533-807)]

Correction to the Notices of Continuation of Antidumping Duty Orders: Sulfanilic Acid From People's Republic of China and India; and Continuation of Countervailing Duty Order: Sulfanilic Acid From India

AGENCY: Import Administration, International Trade Administration, Department of Commerce.

ACTION: Correction to the notices of continuation of antidumping duty orders: sulfanilic acid from People's Republic of China and India; and countervailing duty order: sulfanilic acid from India.

SUMMARY: On June 8, 2000, the Department of Commerce (“the Department”), pursuant to 19 CFR 351.218(f)(4), published notices of the continuation of antidumping duty orders on sulfanilic acid from the PRC and India, and the countervailing duty order on sulfanilic acid from India (65 FR 36404). Subsequent to the issuance of the continuation notices, we detected a ministerial error. We are amending our continuation notices to correct the ministerial error.

Effective Date: June 16, 2000.

For Further Information Contact: Eun W. Cho or James Maeder, Office of Policy for Import Administration, International Trade Administration, U.S. Department of Commerce, 14th Street and Constitution Ave., NW, Washington, DC 20230; telephone: (202) 482-1698 or (202) 482-3330, respectively.

SUPPLEMENTARY INFORMATION:

Background

On June 8, 2000, the Department of Commerce (“the Department”) published the continuation notices of antidumping duty orders on sulfanilic acid from the PRC and India, and the countervailing duty order on sulfanilic acid from India (65 FR 36404). Subsequent to the publication of the final results, we detected ministerial errors.

Clerical Error

The case number in reference to the antidumping order for sulfanilic acid from India should have been A-533-806 rather than A-533-807, as published. Similarly, the case number in reference to the countervailing duty order for sulfanilic acid from India should have been A-533-807 rather than A-533-806, as published. We inadvertently listed wrong case numbers in our notices of continuation. Therefore, we are amending the aforementioned notices of continuation to correct the ministerial error.

This amendment is issued and published in accordance with sections 751(h) and 777(i) of the Act.

Dated: June 12, 2000.
Troy H. Cribb,
Acting Assistant Secretary for Import Administration.

[FR Doc. 00-15311 Filed 6-16-00; 8:45 am]

BILLING CODE 3510-DS-P